DEPARTMENT OF AGRICULTURE

Agricultural Marketing Service

[Document No. AMS-FV-11-0054]

United States Standards for Grades of Okra

AGENCY: Agricultural Marketing Service, USDA.

ACTION: Notice.

SUMMARY: The Agricultural Marketing Service (AMS), prior to undertaking research and other work associated with revising official grade standards, is soliciting comments on the possible revisions to the United States Standards for Grades of Okra. AMS has been reviewing the Fresh Fruit and Vegetable grade standards for usefulness in serving the industry. As a result, AMS has identified the United States Standards for Grades of Okra for possible revisions. AMS would remove the “Unclassified” category from the standards. AMS is seeking comments regarding this change as well as any other possible revisions that may be necessary to better serve the industry.

DATES: Comments must be received by April 9, 2012.

ADDRESSES: Interested persons are invited to submit written comments to the Standardization and Training Branch, Fresh Products Division, Fruit and Vegetable Programs, Agricultural Marketing Service, U.S. Department of Agriculture, National Training and Development Center, Riverside Business Park, 100 Riverside Parkway, Suite 101, Fredericksburg, VA 22406; Fax (540) 361-1199, or on the Web at: www.regulations.gov. Comments should make reference to the dates and page number of this issue of the Federal Register and will be made available for public inspection in the above office during regular business hours.

FOR FURTHER INFORMATION CONTACT: Contact Dr. Carl Newell, Standardization and Training Branch, Fresh Products Division, (540) 361-1120. The United States Standards for Grades of Okra are available by accessing the Fresh Products Branch Web site at: http://www.ams.usda.gov/freshinspection.

SUPPLEMENTARY INFORMATION: Section 203(c) of the Agricultural Marketing Act of 1946 (7 U.S.C. 1621-1627), as amended, directs and authorizes the Secretary of Agriculture “to develop and improve standards of quality, condition, quantity, grade and packaging and recommend and demonstrate such standards in order to encourage uniformity and consistency in commercial practices.” AMS is committed to carrying out this authority in a manner that facilitates the marketing of agricultural commodities. AMS makes copies of official standards available upon request. The United States Standards for Grades of Fruits and Vegetables not connected with Federal Marketing Orders or U.S. Import Requirements no longer appear in the Code of Federal Regulations, but are maintained by USDA, AMS, Fruit and Vegetable Programs.

AMS is revising the United States Standards for Grades of Okra using the procedures that appear in Part 36, Title 7 of the Code of Federal Regulations (7 CFR Part 36). These standards were last revised December 18, 1928.

Background and Proposed Notice: AMS has been reviewing the fresh fruit and vegetable grade standards for usefulness in serving the industry and has identified that the “Unclassified” section needs to be eliminated from the United States Standards for Grades of Okra. AMS is removing this section in all standards as they are revised. This category is not a grade and only serves to show that no grade has been applied to the lot. It is no longer considered necessary. Therefore, AMS is soliciting comments on this proposed revision and any other comments regarding revisions to the United States Standards for Grades of Okra.

This notice provides for a 60 day comment period for interested parties to comment on the proposed revisions in the standard. Should AMS go forward with the revisions, it will develop the proposed revised standards that will be published in the Federal Register with a request for comments in accordance with 7 CFR part 36.

Authority: 7 U.S.C. 1621-1627.

Dated: February 3, 2012.
Robert C. Keeney,
Acting Administrator, Agricultural Marketing Service.

[FR Doc. 2012-3029 Filed 2-8-12; 8:45 am]

BILLING CODE 3410-02-P